DEPARTMENT OF THE INTERIOR

Minerals Management Service

[OMB Control Number 1010-0122]

Agency Information Collection Activities: Submitted for Office of Management and Budget (OMB) Review; Comment Request

AGENCY: Minerals Management Service (MMS), Interior.

ACTION: Notice of an extension of a currently approved information collection (OMB Control Number 1010-0122).

SUMMARY: To comply with the Paperwork Reduction Act (PRA) of 1995, we are submitting to OMB for review and approval an information collection request (ICR) titled “30 CFR part 243 Suspensions Pending Appeal and Bonding” (formerly titled “Filing Sureties”). We are also soliciting comments from the public on this ICR.

DATES: Submit written comments on or before June 3, 2002.

ADDRESSES: Submit written comments to the Office of Information and Regulatory Affairs, OMB, Attention: Desk Officer for the Department of the Interior (OMB Control Number 1010-0122), 725 17th Street, NW, Washington, D.C. 20503. Also, submit copies of your written comments to Carol Shelby, Regulatory Specialist, Minerals Management Service, MS 320B2, P.O. Box 25165, Denver, Colorado 80225. If you use an overnight courier service, MMS's courier address is Building 85, Room A-614, Denver Federal Center, Denver, Colorado 80225. You may also submit your comments at our email address mrm.comments@mms.gov. Include the title of the information collection and the OMB control number in the “Attention” line of your comment. Also include your name and return address. Submit electronic comments as an ASCII file avoiding the use of special characters and any form of encryption. If you do not receive a confirmation that we have received your email, contact Ms. Shelby at (303) 231-3151 or FAX (303) 231-3385.

FOR FURTHER INFORMATION CONTACT: Carol Shelby, Regulatory Specialist, phone (303) 231-3151, FAX (303) 231-3385, or email Carol.Shelby@mms.gov.

SUPPLEMENTARY INFORMATION: Title: 30 CFR part 243 Suspensions Pending Appeal and Bonding (formerly titled “Filing Sureties”).

OMB Control Number: 1010-0122.

Bureau Form Number: Forms MMS-4435 and MMS-4436.

Abstract: The Department of the Interior (DOI) is responsible for matters relevant to mineral resource development on Federal and Indian lands and the Outer Continental Shelf (OCS). The Secretary of the Interior is responsible for managing the production of minerals from Federal and Indian lands and the OCS, collecting royalties from lessees who produce minerals, and distributing the funds collected in accordance with applicable laws. The Secretary also has an Indian trust responsibility to manage Indian lands and seek advice and information from Indian beneficiaries. MMS performs the royalty management functions for the Secretary.

Regulations in 30 CFR part 243 allow lessees, designees, or payors who can demonstrate that they are financially solvent to stay the effectiveness of an MMS order or decision without posting a surety instrument (Federal leases only). For those who are not financially solvent or for appeals involving Indian leases, MMS requires that a surety instrument be posted to secure the financial interests of the public and Indian lessors during the entire administrative or judicial appeal process. A surety instrument is a formal guarantee of payment in case of default. MMS accepts the following types of surety instruments:

• Form MMS-4435, Administrative Appeal Bond;

• Form MMS-4436, Letter of Credit;

• Certificates of Deposit; and

• U.S. Treasury Securities.

This information collection covers the hour burden associated with submitting annual audited financial statements or the surety instruments listed above. Submission of the information in this collection is necessary to stay the effectiveness of an MMS order or decision issued for a Federal and Indian property. Proprietary information that is submitted is protected, and there are no questions of a sensitive nature included in this information collection.

Frequency: On occasion.

Estimated Number and Description of Respondents: 300 Federal or Indian lessees.

Estimated Annual Reporting and Recordkeeping “Hour” Burden: 300 hours.

30 CFR section | Reporting or recordkeeping requirement | Burden hours per response | Annual number of responses | Annual burden hours
243.4(a); 243.6; 243.7(a); 243.8(a)(2) and (b)(2); 243.101(b); 243.201 (d)(2)(ii); 243.202(c) | If you timely appeal an order, and if that order or portion of that order requires you to make a payment, and you want to suspend compliance with that order, you must post a bond or other surety instrument or demonstrate financial solvency * * * If you must meet the bonding or financial solvency requirements nunder § 243.4(a)(1), or if another person is meeting your bonding or financial solvency requirements, then either you or the other person must post a bond or other surety instrument or demonstrate financial solvency within 60 days after you receive the order or the Notice of Order * * * If you assume an appellant's responsibility to post a bond or other surety instrument or demonstrate financial solvency * * * you must notify MMS in writing * * * that you are assuming responsibility * * * Federal leases. If the amount under appeal is $10,000 or more, MMS will suspend your obligation to comply with that order if you (i) Submit an MMS- specified surety instrument under subpart B of this part within a time period MMS prescribes; or (ii) Demonstrate financial solvency under subpart C. Indian leases. If the amount under appeal is $1,000 or more, MMS will suspend your obligation to comply with that order if you submit an MMS-specified surety instrument under subpart B of this part within a time period MMS prescribes. If your appeal is not decided within 1 year from the filing date, you must increase the surety amount to cover additional estimated interest for another 1-year period. You must continue to do this annually on the date your appeal was filed * * * For us to consider you financially solvent, the business-information or credit-reporting service or program must demonstrate your degree of risk as low to moderate. If our bond-approving officer determines that the business-information or credit-reporting service or program information does not demonstrate your financial solvency to our satisfaction, our bond-approving officer will require you to post a bond or other surety instrument under subpart B or pay the obligation * * * If our bond-approving officer determines that you are no longer financially solvent, you must post a bond or other MMS-specified surety instrument under subpart B | 1 | 200 | 200
243.200(a) and (b); 243.201(c)(1) and (2)(ii) | To demonstrate financial solvency under this part, you must submit an audited consolidated balance sheet, and, if requested by the date MMS bond-approving officer, up to 3 years of tax returns to the MMS, Debt Collection Section * * * You you must submit an audited consolidated balance sheet annually, and, if requested, additional annual tax returns on the date MMS first determined that you demonstrated financial solvency as long as you have active appeals, or whenever MMS requests. If your net worth, minus the amount we would require as surety under subpart B for all orders you have appealed is less than $300 million, you must submit * * * a written request asking us to consult a business-information, or credit-reporting service program to determine your financial solvency; and a nonrefundable $50 processing fee. You must submit the fee with your request * * * and then annually on the date we first determined that you demonstrated financial solvency, as long as are not able to demonstrate financial solvency * * * and you have active appeals | 1 | 100 | 100
Total |  |  | 300 | 300

Estimated Annual Reporting and Recordkeeping “Non-hour” Burden: Estimated “non-hour costs” are $1,250 consisting of a $50 fee from each of 25 appellants for which MMS must consult a business information or credit reporting service.

Comments: Section 3506(c)(2)(A) of the PRA (44 U.S.C. 3501, et seq.) requires each agency “ * * * to provide notice * * * and otherwise consult with members of the public and affected agencies concerning each proposed collection of information * * *.” Agencies must specifically solicit comments to (a) evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on January 14, 2002, we published a Federal Register notice (67 FR 1781) with the required 60-day comment period announcing that we would submit this ICR to OMB for approval. We did not receive any comments on the notice. We have posted a copy of the ICR at our Internet web site http://www.mrm.mms.gov/Laws_R_D/FRNotices/FRInfColl.htm. We will also provide a copy of the ICR to you without charge upon request.

If you wish to comment in response to this notice, please send your comments directly to the offices listed under the ADDRESSES section of this notice. OMB has up to 60 days to approve or disapprove the information collection but may respond after 30 days. Therefore, to ensure maximum consideration, OMB should receive your comments by June 3, 2002. The PRA provides that an agency may not conduct or sponsor, and a person is not required to respond to, a collection of information unless it displays a currently valid OMB control number.

Public Comment Policy: We will post all comments received in response to this notice on our Internet web site at http://www.mrm.mms.gov/Laws_R_D/InfoColl/InfoColCom.htm for public review. We also make copies of these comments, including names and home addresses of respondents, available for public review during regular business hours at our offices in Lakewood, Colorado.

Individual respondents may request that we withhold their home address from the record, which we will honor to the extent allowable by law. There may be circumstances in which we would withhold from the record a respondent's identity, as allowable by the law. If you wish us to withhold your name and/or address, you must state this prominently at the beginning of your comments. However, we will not consider anonymous comments. We will make all submissions from organizations or businesses, and from individuals identifying themselves as representatives or officials of organizations or businesses, available for public inspection in their entirety.

MMS Information Collection Clearance Officer: Jo Ann Lauterbach, telephone (202) 208-7744.

Dated: April 12, 2002.
Lucy Querques Denett,
Associate Director for Minerals Revenue Management.

[FR Doc. 02-10987 Filed 5-2-02; 8:45 am]

BILLING CODE 4310-MR-U